DEPARTMENT OF HEALTH AND HUMAN SERVICES

Centers for Disease Control and Prevention

National Center for Health Statistics (NCHS); Notice of Meeting

Classifications and Public Health Data Standards Staff, announces the following meeting:

Name: ICD-9-CM Coordination and Maintenance Committee meeting.

Times and Dates: 8:30 a.m.-6 p.m.., September 24, 2008. 8:30 a.m.-6 p.m., September 25, 2008.

Place: Centers for Medicare and Medicaid Services (CMS) Auditorium, 7500 Security Boulevard, Baltimore, Maryland.

Status: Open to the public.

Purpose: The ICD-9-CM Coordination and Maintenance (C&M) Committee will hold its first meeting of the 2008 calendar year cycle on Wednesday and Thursday September 24-25, 2008. The C&M meeting is a public forum for the presentation of proposed modifications to the International Classification of Diseases, Ninth-Revision, Clinical Modification.

Matters to be Discussed: Tentative agenda items include:

Activity codes

Acute Life Threatening Event (ALTE)

Colic

Congestive heart failure

Dysphonia

Endometrial intraepithelial neoplasia

Epilepsy

Failed sedation

Fitting/adjustment, gastric band

Fluency disorders

Gout

Merkel cell carcinoma

Pouchitis

Sleep maintenance

Traumatic brain injury

Tumor lysis syndrome

Venous thrombosis embolism

Addenda (diagnoses)

Cardiac contractility modulation

Endoscopic insertion of colonic stent

Endoscopic valve insertion

Infrared vascular imaging

Intraoperative Anesthetic Effect Monitoring and Titration

Intravitreal injectables

Thermal therapy for brain tumors

Addenda (procedures)

ICD-10 update and effect on MS-DRGs

Cooperating Parties Update

FOR FURTHER INFORMATION CONTACT: Amy Blum, Medical Systems Specialist, Classifications and Public Health Data Standards Staff, NCHS, 3311 Toledo Road, Room 2402, Hyattsville, Maryland 20782, e-mail alb8@cdc.gov, telephone 301-458-4106 (diagnosis), Mady Hue, Health Insurance Specialist, Division of Acute Care, CMS, 7500 Security Blvd., Baltimore, Maryland, 21244, e-mail marilu.hue@cms.hhs.gov, telephone 410-786-4510 (procedures).

Notice: Because of increased security requirements CMS has instituted stringent procedures for entrance into the building by non-government employees. Persons without a government I.D. will need to show an official form of picture I.D., (such as a drivers license), and sign-in at the security desk upon entering the building. Those who wish to attend a specific ICD-9-CM C&M meeting in the CMS auditorium must submit their name and organization for addition to the meeting visitor list. Those wishing to attend the September 24-25, 2008 meeting must submit their name and organization by September 12, 2008 for inclusion on the visitor list. This visitor list will be maintained at the front desk of the CMS building and used by the guards to admit visitors to the meeting. Those who attended previous ICD-9-CM C&M meetings will no longer be automatically added to the visitor list. You must request inclusion of your name prior to each meeting you attend.

Register to attend the meeting on-line at: http://www.cms.hhs.gov/apps/events/.

Notice: This is a public meeting. However, because of fire code requirements, should the number of attendants meet the capacity of the room, no additional attendees will be accepted into the meeting.

The Director, Management Analysis and Services Office, has been delegated the authority to sign Federal Register notices pertaining to announcements of meetings and other committee management activities, for both CDC and the Agency for Toxic Substances and Disease Registry.

Dated: September 5, 2008.
Elaine L. Baker,
Director, Management Analysis and Services Office, Centers for Disease Control and Prevention.

[FR Doc. E8-21599 Filed 9-15-08; 8:45 am]

BILLING CODE 4160-18-P